DEPARTMENT OF TRANSPORTATION

Federal Aviation Administration

Notice of Availability of a Record of Decision (ROD) and a Written Reevaluation of the 1999 Final Environmental Impact Statement (FEIS) To Select Another Alternative for the Location of the Proposed Third Runway, as Analyzed in the FEIS and Approved in the 2000 ROD at Charlotte Douglas International Airport, Charlotte, NC

AGENCY: Federal Aviation Administration, DOT.

ACTION: Notice of availability of a ROD and a written reevaluation of the FEIS.

SUMMARY: The Federal Aviation Administration (FAA) is making available a ROD and a Written Evaluation of the FEIS in response to FAA procedure changes that have rendered the previously approved third runway unable to accomplish the purpose and need of triple-independent approach operations, thereby minimizing any capacity enhancement that the runway was intended to accomplish. Charlotte Douglas International Airport, Charlotte, North Carolina, has therefore proposed acceptance of another alternative located 600 feet west of the previously approved runway location that was fully analyzed in the EIS as Alternative 5 and that meets the current FAA Airport Design Standards.

Point of Contact: Mr. Scott Seritt, Manager, Airports District Office, Southern Region Federal Aviation Administration, 1701 Columbia Avenue, College Park, GA 30337-2747, (404) 305-7151.

SUPPLEMENTARY INFORMATION: Notice of availability is given of a ROD and a Written Reevaluation of the FEIS to select another alternative for the location of the proposed third runway, as analyzed in the FEIS and approved in the 2000 ROD at Charlotte Douglas International Airport, Charlotte, North Carolina. The new runway location is 600 feet west of the previously approved site, and was fully analyzed as Alternative 5 in the FEIS. The purpose of the ROD and Written Reevaluation was to evaluate potential environmental impacts arising from the approval of the location previously analyzed as Alternative 5 in the FEIS that may not have existed at the time of the original analysis.

These documents will be available during normal business hours at the following locations:

FAA Atlanta Airports District Office, 1701 Columbia Avenue, Campus Building 2-260, College Park, GA 30337-2747 (Due to current security requirements, arrangements must be made with the point of contact prior to visiting these offices.);

Charlotte Douglas International Airport, P.O. Box 19066, Charlotte, NC 28219;

Mecklenburg County Library System, Freedom Regional Library, 1516 Alleghany Street, Charlotte, NC 28208;

Mecklenburg County Library System, Main Branch, 310 North Tyron Street, Charlotte, NC 28202;

Mecklenburg County Library System, West Blvd. Branch, 2157 West Blvd., Charlotte, NC 28208;

Mecklenburg County Library System, 13620 Steele Creek Rd., Charlotte, NC 28273.

Issued in Atlanta, Georgia, August 2, 2006.
Scott Seritt,
Manager, Atlanta Airports District Office, FAA, Southern Region.

[FR Doc. 06-6864 Filed 8-14-06; 8:45 am]

BILLING CODE 4910-13-M